DEPARTMENT OF TRANSPORTATION

Office of the Secretary

Aviation Proceedings, Agreements Filed During the Week Ending November 3, 2000

The following Agreements were filed with the Department of Transportation under the provisions of 49 U.S.C. 412 and 414. Answers may be filed within 21 days after the filing of the application.

Docket Number: OST-2000-8213.

Date Filed: October 31, 2000.

Parties: Members of the International Air Transport Association.

Subject: PTC123 0116 dated 27 October 2000 (r—1-6), PTC123 0117 dated 27 October 2000 (r—7-9), TC123 North Atlantic Expedited Resolutions, Intended effective dates: 1 December 2000/1 January 2001.

Docket Number: OST-2000-8214.

Date Filed: October 31, 2000.

Parties: Members of the International Air Transport Association.

Subject: PTC123 0118/0119/0120/0121 dated 27 October 2000, TC123 Mid/South Atlantic Resolutions, Intended effective dates: 1 December 2000/1 January 2001.

Docket Number: OST-2000-8244.

Date Filed: November 3, 2000.

Parties: Members of the International Air Transport Association.

Subject: PTC COMP 0718 dated 3 November 2000, Mail Vote 093—Resolution 010h, Special Passenger Currency Conversion Resolution—euro, Intended effective date: 1 January 2001.

Dorothy Y. Beard,
Federal Register Liaison.

[FR Doc. 00-29237 Filed 11-14-00; 8:45 am]

BILLING CODE 4910-62-P